DEPARTMENT OF COMMERCE

National Oceanic and Atmospheric Administration

[I.D. 050603B]

Pacific Fishery Management Council; Public Meeting

AGENCY: National Marine Fisheries Service (NMFS), National Oceanic and Atmospheric Administration (NOAA), Commerce.

ACTION: Notice of public meeting.

SUMMARY: The Groundfish Stock Assessment Review (STAR) Panel for cowcod, darkblotched rockfish, and yellowtail rockfish will hold a work session which is open to the public.

DATES: The cowcod, darkblotched rockfish, and yellowtail rockfish STAR Panel will meet beginning at 8 a.m., Wednesday, May 28, 2003. The meeting will continue on Thursday, May 29, 2003 beginning at 8 a.m. The meetings will end at 5 p.m. each day, or as necessary to complete business.

ADDRESSES: The cowcod, darkblotched rockfish, and yellowtail rockfish STAR Panel meeting will be held at NMFS Northwest Fisheries Science Center, Room 370W, 2725 Montlake Blvd. E, Seattle, WA 98112; telephone: 206-860-3200.

Council address: Pacific Fishery Management Council, 7700 NE Ambassador Place, Suite 200, Portland, OR 97220-1384.

FOR FURTHER INFORMATION CONTACT: Mr. John DeVore, Staff Officer; 503-820-2280.

SUPPLEMENTARY INFORMATION: The purpose of the meeting is to review draft updated stock assessment documents and any other pertinent information, work with the Stock Assessment Teams to make necessary revisions, and produce a STAR Panel report for use by the Council family and other interested persons.

Entry to the Northwest Fisheries Science Center requires identification with photograph (such as a student ID, state drivers license, etc.). A security guard will review the identification and issue a Visitor's Badge valid only for the date of the meeting.

Although nonemergency issues not contained in STAR Panel agendas may come before the STAR Panel for discussion, those issues may not be the subject of formal Panel action during this meeting. STAR Panel action will be restricted to those issues specifically listed in this notice, and any issues arising after publication of this notice that require emergency action under section 305(c) of the Magnuson-Stevens Fishery Conservation and Management Act, provided the public has been notified of the Panel's intent to take final action to address the emergency.

Special Accommodations

The meeting is physically accessible to people with disabilities. Requests for sign language interpretation or other auxiliary aids should be directed to Ms. Carolyn Porter at 503-820-2280 at least 5 days prior to the meeting date.

Dated: May 6, 2003.
Peter H. Fricke,
Acting Director, Office of Sustainable Fisheries, National Marine Fisheries Service.

[FR Doc. 03-11735 Filed 5-9-03; 8:45 am]

BILLING CODE 3510-22-S